FEDERAL COMMUNICATIONS COMMISSION

47 CFR Part 73

[MB Docket No. 23-78; RM-11946; DA 23-618; FR ID 157371]

Television Broadcasting Services Elko, Nevada

AGENCY: Federal Communications Commission.

ACTION: Final rule.

SUMMARY: In this document, the Federal Communications Commission's Media Bureau, Video Division (Bureau) issued a Notice of Proposed Rulemaking (NPRM) in response to a petition for rulemaking filed by Reno Licensee, LLC (Petitioner), the licensee of KENV-TV (Station or KENV-TV), channel 10, Elko, Nevada, requesting the substitution of channel 20 for channel 10 at Elko in the Table of TV Allotments. For the reasons set forth in the Report and Order referenced below, the Bureau amends FCC regulations to substitute channel 20 for channel 10 at Elko.

DATES: Effective August 3, 2023.

FOR FURTHER INFORMATION CONTACT: Joyce Bernstein, Media Bureau, at (202) 418-1647 or Joyce.Bernstein@fcc.gov.

SUPPLEMENTARY INFORMATION: The proposed rule was published at 88 FR 16250 on March 16, 2023. The Petitioner filed comments in support of the petition reaffirming its commitment to apply for channel 20. No other comments were filed.

The Bureau believes the public interest would be served by substituting channel 20 for channel 10 at Elko, Nevada. The Commission has recognized that VHF poses challenges for stations providing digital television service on those channels due to propagation characteristics that allow undesired signals and noise to be receivable at relatively far distances and result in large variability in the performance of indoor antennas available to viewers, with most antennas performing very poorly on high VHF channels. According to the Petitioner, the Station “has received numerous complaints from local viewers who can receive signals from other local stations but are unable to receive the Station's over-the-air signal on Channel 10.” Thus, the Petitioner asserts that its channel substitution proposal will serve the public by resolving the over-the-air reception problems and enhancing viewer reception in the Station's service area. An analysis conducted using the Commission's TVStudy software tool indicates that no persons within the Station's current noise limited contour will lose service and an additional 1,367 persons are predicted to gain service from the Station.

This is a synopsis of the Commission's Report and Order, MB Docket No. 23-78; RM-11946; DA 23-618, adopted July 19, 2023, and released July 19, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Nevada, by revising the entry for Elko to read as follows:

§ 73.622 digital television table of allotments.

* * * * *

(j) * * *

Community | Channel No.
* * * * *
NEVADA
Elko | 20
* * * * *

[FR Doc. 2023-16051 Filed 8-2-23; 8:45 am]

BILLING CODE 6712-01-P